DEPARTMENT OF LABOR

Mine Safety and Health Administration

Petitions for Modification of Application of Existing Mandatory Safety Standard

AGENCY: Mine Safety and Health Administration, Labor.

ACTION: Notice.

SUMMARY: This notice is a summary of a petition for modification submitted to the Mine Safety and Health Administration (MSHA) by the parties listed below.

DATES: All comments on the petition must be received by MSHA's Office of Standards, Regulations, and Variances on or before November 13, 2018.

ADDRESSES: You may submit your comments, identified by “docket number” on the subject line, by any of the following methods:

1. Email: zzMSHA-comments@dol.gov Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect a copy of the petition and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (voice), barron.barbara@dol.gov (email), or 202-693-9441 (fax). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petition for Modification

Docket Number: M-2018-018-C.

Petitioner: Wilson Creek Energy, LLC, Three Gateway Center, Suite 1500, 401 Liberty Avenue, Pittsburgh, PA 15222.

Mine: Acosta Deep Mine, MSHA I.D. No. 36-09893, located in Somerset County, Pennsylvania.

Regulation Affected: 30 CFR 75.503 (Permissible electric face equipment; maintenance) and 30 CFR 18.35 (Portable (trailing) cables and cords).

Modification Request: The petitioner requests a modification of the existing standard to permit an alternative method of compliance with respect to the length of trailing cable.

The petitioner states that:

(1) The Acosta Deep Mine is a room and pillar mine that utilizes continuous mining machines and continuous haulage. The rooms off the mains or submains are driven approximately 600 feet on 52 feet by 60 feet centers. There are three producing sections. When using continuous haulage, it is necessary to add an electrical box (“D-box”) on the return side of the section so that the roof bolters have enough cable to reach the faces. The granting of this petition will eliminate the additional electrical box and will make the bolting process more efficient and thus effective. The mine utilizes 480V Fletcher Roof Ranger II roof bolters.

(2) The granting of the petition will reduce the amount of cable handling. The average mining height is 38-42 inches. Sprains and strains from cable handling are the most frequent injury at the mine.

(3) The petitioner proposes the following alternative method to be utilized:

(a) The maximum length of the 480-volt trailing cables will be 1,100 feet when using No. 2 American Wire Gauge (AWG) cables.

(b) The trailing cables for the 480-volt Fletcher Roof Ranger II roof bolters will not be smaller than No. 2 AWG cable.

(c) All circuit breakers used to protect the No. 2 AWG trailing cables exceeding 700 feet in length will have instantaneous trip units calibrated to trip at 700 amperes. The trip setting of these circuit breakers will be sealed to ensure that the setting on these circuit breakers cannot be changed, and these breakers will have permanent, legible labels. Each label will identify the circuit breaker as being suitable for protecting the No. 2 AWG cables.

(d) Replacement circuit breakers and/or instantaneous trip units used to protect the No. 2 AWG trailing cables will be calibrated to trip at 700 amperes, and this setting will be sealed.

(e) All components that provide short-circuit protection will have a sufficient interruption rating in accordance with the maximum calculated fault currents available.

(f) During each production day, the No. 2 AWG cables and the associated circuit breakers will be examined in accordance with all 30 CFR provisions.

(g) Permanent warning labels will be installed and maintained on the load center identifying the location of each short-circuit protective device. These labels will warn miners not to change or alter the settings of these devices.

(h) If the affected trailing cables are damaged in any way during the shift, the cable will be de-energized and repairs made.

(i) This alternative method will not be implemented until all miners who have been designated to operate the roof bolters, or any other person designated to examine the trailing cables or trip settings on the circuit breakers have received the proper training.

(j) Within 60 days after the proposed decision and order becomes final, the petitioner will submit proposed revisions for its approved 30 CFR part 48 training plan to the District Manager. These proposed revisions will specify task training for miners designated to examine the trailing cables for safe operating condition and verify the short-circuit settings of the circuit interrupting device(s) that protect the affected trailing cables do not exceed the specified setting(s) in Item No. 3(c). The training will include the following:

(i) The hazards of setting short-circuit interrupting device(s) too high to adequately protect the trailing cables;

(ii) How to verify that the circuit interrupting devices(s) protecting the trailing cable(s) are properly set and maintained;

(iii) Mining methods and operating procedures that will protect the trailing cables against damage; and

(iv) The proper procedure for examining the trailing cables to ensure that the cable(s) are in safe operating condition by a visual inspection of the entire cable, observing the insulation, the integrity of the splices, nicks, and abrasions.

The petitioner asserts that the proposed alternative method will at all times guarantee no less than the same measure of protection afforded the miners under the existing standard.

Roslyn B. Fontaine,
Deputy Director, Office of Standards, Regulations, and Variances.

[FR Doc. 2018-22181 Filed 10-11-18; 8:45 am]

BILLING CODE 4520-43-P